DEPARTMENT OF TRANSPORTATION

Federal Transit Administration

49 CFR Part 609

[Docket No. FTA-2025-0005]

RIN 2132-AB54

Transportation for Elderly and Handicapped Persons

AGENCY: Federal Transit Administration (FTA), Department of Transportation (DOT).

ACTION: Final rule.

SUMMARY: This rulemaking rescinds the FTA regulation on Transportation for Elderly and Handicapped Persons, as FTA finds that the regulation is obsolete and unnecessary.

DATES: This final rule is effective on July 1, 2025.

FOR FURTHER INFORMATION CONTACT: Heather Ueyama, Office of Chief Counsel, (202) 366-7374 or heather.ueyama@dot.gov. Office hours are from 8:30 a.m. to 5 p.m., Monday through Friday, except Federal holidays.

SUPPLEMENTARY INFORMATION:

I. Background and Discussion of the Changes

FTA initially adopted part 609 in 1976 to establish regulatory requirements for transportation for the elderly and persons with disabilities (41 FR 18239). This regulation implemented section 5(m) of the National Mass Transportation Assistance Act of 1974 (Pub. L. 93-503). It included various requirements regarding transportation planning in urbanized areas, transportation planning in nonurbanized areas, accessible transportation facilities, and accessible vehicles.

In 1996, FTA amended Part 609 to remove most of the regulation's substantive provisions. These provisions were superseded by the Department of Transportation's regulations implementing the Americans with Disabilities Act of 1990 (49 CFR parts 37 and 38) and the joint Federal Highway Administration/FTA Statewide and Metropolitan Planning regulations (49 CFR part 613 and 23 CFR part 450). As a result of the 1996 rulemaking, the only substantive requirement remaining in part 609 was to direct recipients of FTA funding under 49 U.S.C. 5307 to certify that they will ensure a reduced fare is charged for seniors and individuals with disabilities (§ 609.23). This requirement is codified in statute at 49 U.S.C. 5307(c)(1)(D) and is self-executing. It therefore is unnecessary for FTA to codify the requirement in the Code of Federal Regulations (CFR).

Moreover, several reauthorizations have amended FTA's authorizing statute since the 1996 rulemaking, rendering much of the language in part 609 obsolete. Notably, the statute no longer uses the term “elderly and handicapped persons,” which is the only defined term in the regulation's definitions section. Similarly, this renders the corresponding guidance in Appendix A regarding the term “elderly and handicapped persons” obsolete. Appendix A reproduced several Questions and Answers from FTA Circular 9060.1 (April 20, 1978), which has since been rescinded and is longer in effect.

Given that the regulation is largely obsolete, and the reduced fare provision is the regulation's only substantive requirement, FTA finds that the regulation no longer has any utility and should be rescinded. This action will reduce regulatory burden by eliminating outdated and unnecessary provisions from the CFR.

II. Good Cause for Dispensing With Notice and Comment and Delayed Effective Date

Under the Administrative Procedure Act (APA) (5 U.S.C. 553(b)), an agency may waive the normal notice and comment procedure if it finds, for good cause, that it is impracticable, unnecessary, or contrary to the public interest. Additionally, 5 U.S.C. 553(d) provides that an agency may waive the 30-day delayed effective date upon finding of good cause. As noted above, the only substantive provision in part 609 sets forth the requirement for certain FTA recipients to certify that they will ensure a reduced fare is charged for seniors and individuals with disabilities. This requirement already is codified in 49 U.S.C. 5307(c)(1)(D), which is a self-effectuating statutory provision. It therefore is unnecessary for FTA to codify this provision in the CFR. Furthermore, the language in the regulation, including Appendix A, is outdated. Rescinding the regulation will have no substantive legal effect or impact on the status quo.

Accordingly, FTA finds good cause that notice and comment for this rule is unnecessary due to the nature of the revisions (i.e., the rule will have no substantive impact on FTA requirements or eligibility for FTA funding). For the same reasons, FTA finds that the delayed effective date is unnecessary. Accordingly, FTA finds good cause under 5 U.S.C. 553(b)(3)(B) and (d)(3) to waive notice and opportunity for comment and the delayed effective date.

III. Regulatory Analyses and Notices

A. Executive Orders 12866 and 13563 (Regulatory Review)

E.O. 12866 (“Regulatory Planning and Review”), as supplemented by E.O. 13563 (“Improving Regulation and Regulatory Review”), directs Federal agencies to assess the benefits and costs of regulations and to select regulatory approaches that maximize net benefits when possible, and to consider economic, environmental, and distributional effects. This action does not meet the criteria of a “significant regulatory action.” Therefore, the Office of Management and Budget (OMB) has not reviewed this action.

This final rule would remove obsolete and unnecessary language from the CFR. FTA does not expect that any regulated entities will change their behavior as a result of this rule, and therefore the rule is not likely to result in any impacts to regulated entities other than removing language from the CFR. It could result in some cost savings by reducing the amount of time to become familiar with FTA's regulations. FTA assumes any realized cost savings will be de minimis. FTA does not have data to estimate the reduction in costs that will result from this final rule.

B. Executive Order 14192 (Deregulatory Action)

E.O. 14192 (“Unleashing Prosperity Through Deregulation”) requires that for “each new [E.O. 14192 regulatory action] issued, at least ten prior regulations be identified for elimination.” Implementation guidance for E.O. 14192, issued by the Office of Management and Budget (OMB) (Memorandum M-25-20, March 26, 2025), defines an E.O. 14192 deregulatory action as “an action that has been finalized and has total costs less than zero.” This final rule will have total costs less than zero, and therefore is an E.O. 14192 deregulatory action.

C. Regulatory Flexibility Act

Pursuant to the Regulatory Flexibility Act of 1980 (5 U.S.C. 601 et seq.), as amended by the Small Business Regulatory Enforcement Fairness Act of 1996 (Pub. L. 104-121, 110 Stat. 857), FTA is not required to prepare a regulatory flexibility analysis under 5 U.S.C. 604(a) for this final rule because FTA is not required to issue a notice of proposed rulemaking prior to this action.

D. Unfunded Mandates Reform Act of 1995

FTA has determined that this rule would not impose unfunded mandates, as defined by the Unfunded Mandates Reform Act of 1995 (Pub. L. 104-4). This rule does not include a Federal mandate that may result in expenditures of $100 million or more in any one year, adjusted for inflation, by State, local, and tribal governments in the aggregate or by the private sector.

E. Executive Order 13132 (Federalism Assessment)

E.O. 13132 (“Federalism”) requires agencies to assure meaningful and timely input by State and local officials in the development of regulatory policies that may have a substantial direct effect on the States, on the relationship between the national government and the States, or on the distribution of power and responsibilities among the various levels of government. This action has been analyzed in accordance with the principles and criteria contained in E.O. 13132, and FTA determined this action will not have a substantial direct effect or sufficient federalism implications on the States. FTA also determined this action will not preempt any State law or regulation or affect the States' ability to discharge traditional State governmental functions.

F. Executive Order 12372 (Intergovernmental Review)

The regulations implementing E.O. 12372 (“Intergovernmental Review of Federal Programs”) regarding intergovernmental consultation on Federal programs and activities do not apply to this rulemaking.

G. Paperwork Reduction Act

FTA has analyzed this rule under the Paperwork Reduction Act and it does not impose additional information collection requirements for the purposes of the Act above and beyond existing information collection clearances from OMB.

H. National Environmental Policy Act

FTA has analyzed this rule for the purposes of the National Environmental Policy Act of 1969 (NEPA). In accordance with 42 U.S.C. 4336 and DOT NEPA Order 5610.1C, FTA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

I. Executive Order 13175 (Tribal Consultation)

FTA has analyzed this rule under E.O. 13175 (“Consultation and Coordination with Indian Tribal Governments”), and believes that it will not have substantial direct effects on one or more Indian tribes; will not impose substantial direct compliance costs on Indian tribal governments; and will not preempt tribal laws. Therefore, a tribal summary impact statement is not required.

J. Executive Order 13211 (Energy Effects)

FTA has analyzed this action under E.O. 13211 (“Actions Concerning Regulations That Significantly Affect Energy Supply, Distribution, or Use”). FTA has determined that this action is not a significant energy action under that order and is not likely to have a significant adverse effect on the supply, distribution, or use of energy. Therefore, a Statement of Energy Effects is not required.

K. Regulation Identifier Number (RIN)

A Regulation Identifier Number (RIN) is assigned to each regulatory action listed in the Unified Agenda of Federal Regulations. The Regulatory Information Service Center publishes the Unified Agenda in April and October of each year. The RIN number contained in the heading of this document can be used to cross-reference this rule with the Unified Agenda.

List of Subjects in 49 CFR Part 609

Aged, Buses, Civil rights, Individuals with disabilities, Mass transportation.

PART 609—[REMOVED AND RESERVED]

In consideration of the foregoing, FTA removes and reserves 49 CFR part 609.

Issued in Washington, DC, under authority delegated in 49 CFR 1.91.
Tariq Bokhari,
Acting Administrator.

[FR Doc. 2025-12143 Filed 6-27-25; 4:15 pm]

BILLING CODE 4910-57-P